DEPARTMENT OF COMMERCE

National Oceanic and Atmospheric Administration

Agency Information Collection Activities; Submission to the Office of Management and Budget (OMB) for Review and Approval; Comment Request; NOAA Geospatial Metadata

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 2, 2024.

ADDRESSES: Interested persons are invited to submit written comments to Adrienne Thomas, NOAA PRA Officer, at NOAA.PRA@noaa.gov. Please reference OMB Control Number 0648-0024 in the subject line of your comments. Do not submit Confidential Business Information or otherwise sensitive or protected information.

FOR FURTHER INFORMATION CONTACT: Requests for additional information or specific questions related to collection activities should be directed to James Primrose, IT Specialist, NOAA/National Centers for Environmental Information, 325 Broadway, Boulder CO 80305, 720-248-8122, James.Primrose@noaa.gov.

SUPPLEMENTARY INFORMATION:

I. Abstract

This request is for renewal and extension of a currently approved information collection. The National Oceanic and Atmospheric Administration (NOAA) collects, generates, retains, and redistributes geospatial metadata in a wide array of data formats covering diverse aspects of earth, biological, and space sciences. To fully understand and reuse these data over the course of many years, NOAA provides several metadata documentation tools for various communities of users to enable them to easily create complete, standards-based descriptive information about geospatial data. The following tools, in use by NOAA Program offices, are authorized to collect geospatial metadata consistent with Executive Order 12906, NOAA Administrative Order 212-15, and the 2013 Office of Science and Technology Policy Memorandum `Public Access to Research Results'. Geospatial metadata collected by the listed tools are voluntary, but the ability for data documented by relevant geospatial metadata is significantly degraded if metadata are incomplete, inaccurate or otherwise less than the information collection tool supports. The collections approved under this control number include: (1) National Environmental Satellite, Data and Information Service: Send2NCEI web application; (2) National Environmental Satellite, Data and Information Service: Advanced Tracking and Resource tool for Archive Collections (ATRAC) web application; (3) National Environmental Satellite, Data and Information Service: Collection Metadata Editing Tool (CoMET) web application; (4) National Marine Fisheries Service (NMFS): InPort metadata authoring tool; and (5) Office of Oceanic and Atmospheric Research (OAR): Science Data Information System (SDIS) metadata and data submission tool.

Collecting geospatial metadata is necessary to fully understand, use, and reuse geospatial data, geospatial metadata because metadata provides contextual information about data formats, bounding areas, use and access limitations (if any). Geospatial metadata from this information collection also supports multiple search and discovery catalog services, such as data.gov, NASA Global Change Master Directory (GCMD), and many others.

Information will be collected from data producers (primarily university, private industry, and government-funded scientific researchers) in multiple fields of geosciences, biological and atmospheric sciences, and socio-economic sciences. Geospatial metadata typically includes descriptive information about specific observed, calculated, or modeled data (e.g., title, abstract, purpose statement, descriptive discovery keywords), characteristics of the described data (e.g., date and spatial range of data collection activities, data processing steps, collected/measured variables and units of measure for those variables) and administrative information (e.g., who collected or created data and metadata, how to cite data when used in scientific analyses). Information collected by the listed tools is used to inform the appropriate use of data described by related geospatial metadata.

II. Method of Collection

All of the listed information collection instruments use a series of guided web page (html) forms to collect specific elements of geospatial metadata (e.g., start/end date of data observations, descriptive discovery keywords, file format types and file-naming conventions).

III. Data

OMB Control Number: 0648-0024.

Form Number(s): None.

Type of Review: Regular. [Renewal and extension of a current information collection].

Affected Public: Business or other for-profit organizations; Not-for-profit institutions; State, Local, or Tribal government; Federal government; Research universities.

Estimated Number of Respondents: 665 respondents per year (Send2NCEI—300 respondents; ATRAC—100 respondents; CoMET—50 respondents; InPort—15 respondents;

SDIS—200 respondents).

Estimated Time per Response: Send2NCEI—.75 hours; ATRAC—4 hours; CoMET—3 hours; InPort—1 hour; SDIS—1 hour.

Estimated Total Annual Burden Hours: 990 hours.

Estimated Total Annual Cost to Public: $0 in recordkeeping/reporting costs.

Respondent's Obligation: Voluntary. NMFS and OAR internal policies related to availability of future funding options may apply to users of InPort and SDIS tools, respectively.

Legal Authority: Executive Order 12906, NOAA Administrative Order 212-15, 2013 Office of Science and Technology Policy Memorandum `Public Access to Research Results', NOAA Response to OSTP Memorandum `Public Access to Research Results'

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-22873 Filed 10-2-24; 8:45 am]

BILLING CODE 3510-12-P